COMMODITY FUTURES TRADING COMMISSION

Sunshine Act; Meeting

Agency Holding the Meeting: Commodity Futures Trading Commission.

Time and Date: 11:00 a.m., Friday, April 12, 2002.

Place: 1155 21st St., NW., Washington, DC, 9th Floor Conference Room.

Status: Closed.

Matters to be Considerd: Surveillance Matters.

FOR MORE INFORMATION CONTACT: Jean A. Webb, 202-418-5100.

Jean A. Webb,
Secretary of the Commission.

[FR Doc. 02-7981 Filed 3-28-02; 4:21 pm]

BILLING CODE 6351-01-M